COMMISSION ON CIVIL RIGHTS

Sunshine Act Meeting Notice

AGENCY: United States Commission on Civil Rights.

ACTION: Notice of commission public briefing, Racial Disparities in Violent Crime Victimization in the United States, notice of commission business meeting, and call for public comments.

DATES: Friday, November 17, 2023, 9 a.m. ET.

ADDRESSES: The briefing is open to the public and can be attended via live stream on the Commission's YouTube page at: https://www.youtube.com/usccr.

FOR FURTHER INFORMATION CONTACT: Angelia Rorison (202) 376-8359; publicaffairs@usccr.gov.

SUPPLEMENTARY INFORMATION: The U.S. Commission on Civil Rights will hold a briefing on November 17, 2023, on the federal government's response to anti-Asian racism in the United States. The Commission's investigation seeks to examine the federal government's role in documenting, prosecuting, and preventing hate crimes against persons of Asian descent.

This briefing is open to the public and is accessible via live stream at https://www.youtube.com/usccr. (* Streaming information subject to change.)

Computer assisted real-time transcription (CART) will be provided. The web link to access CART (in English) on Friday, November 17, 2023, is https://www.streamtext.net/player?event=USCCR. Please note that CART is text-only translation that occurs in real time during the meeting and is not an exact transcript.

To request additional accommodations, persons with disabilities should email access@usccr.gov by Thursday, November 16, 2023, indicating “accommodations” in the subject line.

Briefing Agenda for the Federal Response to Anti-Asian Racism in the United States

9:00 a.m.-6:00 p.m. * All times Eastern Standard Time

I. Introductory Remarks: 9:00 a.m.-9:15 a.m.

II. Panel 1: Current & Former Government Officials: 9:15 a.m.-10:25 a.m.

III. Break: 10:25 a.m.-10:35 a.m.

IV. Panel 2: Community Stakeholders & Advocates: 10:35 a.m.-11:45 a.m.

V. Lunch Break: 11:45 a.m.-12:45 p.m.

VI. Panel 3: Impacted Persons: 12:45 p.m.-1:55 p.m.

VII. Break: 1:55 p.m.-2:05 p.m.

VIII. Panel 4: Researcher & Policy Experts: 2:05 p.m.-3:15 p.m.

IX. Break: 3:15 p.m.-4:25 p.m.

X. Open Public Comment Session: 4:25 p.m.-5:55 p.m.

XI. Closing Remarks: 5:55 p.m.-6:00 p.m.

VI. Adjourn Meeting

** Public Comments will also be accepted through written testimony.

* Schedule is subject to change.

Call for Public Comments

In addition to the testimony collected on Friday, November 17, 2023, via public briefing, the Commission welcomes the submission of material for consideration as we prepare our report. Please submit such information to victimsofcrime@usccr.gov no later than December 15, 2023, or by mail to OCRE/Public Comments, ATTN: Anti-Asian Discrimination, U.S. Commission on Civil Rights, 1331 Pennsylvania Ave. NW, Suite 1150, Washington, DC 20425. The Commission encourages the use of email to provide public comments due to the current COVID-19 pandemic.

Dated: November 13, 2023.
Angelia Rorison,
USCCR Media and Communications Director.

[FR Doc. 2023-25320 Filed 11-13-23; 11:15 am]

BILLING CODE 6335-01-P